ENVIRONMENTAL PROTECTION AGENCY

[EPA-HQ-OPPT-2017-0319; FRL-9891-01-OMS]

Information Collection Request Submitted to OMB for Review and Approval; Comment Request; Asbestos-Containing Materials in Schools and Asbestos Model Accreditation Plans (Renewal)

AGENCY: Environmental Protection Agency (EPA).

ACTION: Notice.

SUMMARY: The Environmental Protection Agency (EPA) has submitted an information collection request (ICR), Asbestos-Containing Materials in Schools and Asbestos Model Accreditation Plans (EPA ICR Number 1365.12, OMB Control Number 2070-0091), to the Office of Management and Budget (OMB) for review and approval in accordance with the Paperwork Reduction Act. This is a proposed extension of the ICR, which is currently approved through May 31, 2022. Public comments were previously requested via the Federal Register on September 1, 2021, during a 60-day comment period. This notice allows for an additional 30 days for public comments. A fuller description of the ICR is given below, including its estimated burden and cost to the public. An agency may not conduct or sponsor and a person is not required to respond to a collection of information unless it displays a currently valid OMB control number.

DATES: Additional comments may be submitted on or before June 27, 2022.

ADDRESSES: Submit your comments to EPA, referencing Docket ID No. EPA-HQ-OPPT-2017-0319, online using www.regulations.gov (our preferred method) or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Katherine Sleasman, Regulatory Support Branch (7101M), Office of Chemical Safety and Pollution Prevention, Environmental Protection Agency, 1200 Pennsylvania Ave. NW, Washington, DC 20460-0001; telephone number: (202) 566-1204; email address: sleasman.katherine@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Abstract: This ICR addresses reporting and recordkeeping requirements found in the Asbestos-Containing Materials in Schools Rule promulgated under section 203 of the Asbestos Hazard Emergency Response Act (AHERA, 15 U.S.C. 2641-2656); and the Asbestos Model Accreditation Plan (MAP) Rule under AHERA section 206. As set forth in 40 CFR part 763, subpart E the local education agency (LEA) is required to conduct inspections, develop management plans, and design or conduct response actions. Records must be maintained by all LEAs on inspections and response action activity, and current management plans must be provided upon request to EPA and state reviewers for examination. In addition, 40 CFR part 763, subpart E, describes a model accreditation plan (MAP) for states. The MAP provides accreditation criteria for persons who inspect for asbestos, develop management plans, and design or conduct response actions. States are required to adopt an accreditation plan at least as stringent as the EPA model plan. The accreditation requirements apply to persons who work in public and commercial buildings as well as schools. Accreditation of laboratories that analyze asbestos bulk samples and asbestos air samples is also required by AHERA.

This ICR estimates the paperwork burden for LEAs to inspect for asbestos and update management plans to protect all school building occupants from exposure to asbestos. This collection also estimates the paperwork burden for the accreditation of persons who inspect for asbestos, develop management plans, and design or conduct response actions and the paperwork burden associated with state accreditation programs.

Form Numbers: None.

Respondents/affected entities: Elementary and secondary school districts in North American Industrial Classification System (NAICS) code 61111, all states (NAICS code 92311), MAP training providers (NAICS code 61143), and the State Asbestos Accreditation Programs (NAICS code 92312).

Respondent's obligation to respond: Mandatory, per AHERA and 40 CFR part 763.

Estimated number of respondents: 137,621 (total).

Frequency of response: On occasion.

Total estimated burden: 2,600,679 hours (per year). Burden is defined at 5 CFR 1320.3(b).

Total estimated cost: $106,858,607 (per year), which includes no in annualized capital or operation & maintenance costs.

Changes in the Estimates: There is an increase of 45,766 hours in the total estimated respondent burden compared with the ICR currently approved by OMB. While the number schools with friable ACMs is steadily declining, the associated burden reductions are counteracted by the larger increase in in schools with no or non-friable ACM (which includes newly constructed schools that are certified through an exclusionary statement not to have specified asbestos-containing building materials in construction). This change is an adjustment.

Courtney Kerwin,
Director, Regulatory Support Division.

[FR Doc. 2022-11351 Filed 5-25-22; 8:45 am]

BILLING CODE P